DEPARTMENT OF COMMERCE

International Trade Administration

Air Force Research Laboratory et al.; Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3705, U.S. Department of Commerce, 14th and Constitution Ave, NW., Washington, DC.

Comments: None received. Decision: Approved. We know of no instruments of equivalent scientific value to the foreign instrument described below, for such purposes as this is intended to be used, that was being manufactured in the United States at the time of its order.

Docket Number: 09-045. Applicant: Air Force Research Laboratory, Wright-Patterson AFB, OH 45433. Instrument: Tilting Goniometer Stages, with Resistive Encoders. Manufacturer: Attocube Systems AG, Germany. Intended Use: See notice at 74 FR 44350, August 28, 2009. Reasons: This instrument is unique and is essential to enable the characterization and measurement of micromechanical properties of structural aerospace metals. Specifically, the instrument can move linear position less than 5nm wide and to move objects to distances over 5nm and has millidegree resolution and a range of tilt of at least 5 degrees. No domestic sources make devices with similar capabilities.

Docket Number: 09-046. Applicant: National Renewable Energy Laboratory, Golden, CO 80401. Instrument: Sidewinder Upgrade (ion column) Accessory for Electron Microscope. Manufacturer: FEI Company, the Netherlands. Intended Use: See notice at 74 FR 44350, August 28, 2009. Reasons: This instrument is unique and is essential to the study of the chemistry, crystallography and structural morphology of materials used in the development of photovoltaic devices. We know of no electron microscope, or accessory thereto, suited to these purposes, which was being manufactured in the United States at the time of order of this instrument.

Dated: September 22, 2009.
Christopher D. Cassel,
Director, Subsidies Enforcement Office, Import Administration.

[FR Doc. E9-23368 Filed 9-25-09; 8:45 am]

BILLING CODE 3510-DS-P